DEPARTMENT OF TRANSPORTATION

Federal Aviation Administration

14 CFR Part 39

[Docket No. FAA-2005-20514; Directorate Identifier 2005-CE-08-AD; Amendment 39-14025; AD 2005-07-01]

RIN 2120-AA64

Airworthiness Directives; The Cessna Aircraft Company Models C208 and C208B Airplanes

AGENCY: Federal Aviation Administration (FAA), DOT.

ACTION: Final rule; request for comments.

SUMMARY: The FAA is adopting a new airworthiness directive (AD) for all The Cessna Aircraft Company (Cessna) Models 208 and 208B airplanes. This AD requires you to incorporate information into the applicable section of the Airplane Flight Manual (AFM). This AD results from several accidents/incidents of problems with the affected airplanes during operations in icing conditions, including six accidents in the previous two icing seasons and nine events in the past few months. We are issuing this AD to assure that the pilot has enough information to prevent loss of control of the airplane while in-flight during icing conditions.

DATES: This AD becomes effective on March 29, 2005.

We must receive any comments on this AD by April 30, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

• To get the service information identified in this proposed AD, contact The Cessna Aircraft Company, Product Support, PO Box 7706, Wichita, Kansas 67277-7706; telephone: (316) 517-5800; facsimile: (316) 942-9006.

To view the comments to this AD, go to http://dms.dot.gov. The docket number is FAA-2005-20514; Directorate Identifier 2005-CE-08-AD.

FOR FURTHER INFORMATION CONTACT: Paul Pellicano, Aerospace Engineer (Icing), FAA, Small Airplane Directorate, c/o Atlanta Aircraft Certification Office (ACO), One Crown Center, 1985 Phoenix Boulevard, Suite 450, Atlanta, GA 30349; telephone: (770) 703-6064; facsimile: (770) 703-6097.

SUPPLEMENTARY INFORMATION: What events have caused this AD? The FAA has received several reports of accidents/incidents concerning problems with Cessna Models C208 and C208B airplanes during operations in icing conditions. This includes a total of six accidents in the previous two icing seasons and nine events in the past few months. Most of the accidents occur on approach and landing. One-third are suspected to be in supercooled large droplets, icing conditions outside the 14 CFR part 25 Appendix C certification envelope. The Cessna Models C208 and C208B are certificated to 14 CFR part 23, but 14 CFR part 23 references 14 CFR part 25 Appendix C for icing certification. The following chart shows the monthly breakdown of the icing accidents/incidents of the affected airplanes:

The information shows that icing accidents/incidents are just as prevalent or more prevalent during the months of March and April than in November, December, and January. Therefore, the next month is critical for the continued operational safety of the Cessna Models C208 and C208B in icing conditions.

What is the potential impact if FAA took no action? If the pilot does not have enough information on flight into icing conditions in the Airplane Flight Manual (AFM), then loss of control of the airplane could occur.

Is there service information that applies to this subject? Cessna has developed revisions to the FAA-approved AFM to address this issue, as follows:

Document | Affects
Temporary Revision 208PHTR04, dated March 2, 2005, to the FAA-approved Airplane Flight Manual | Cessna Model 208, all models and serial numbers.
Revision 5 of of the 208 (675 SHP) FAA-approved Flight Supplement 1 “Known Icing Equipment”, Cessna document D1352-S1-05, dated March 2, 2005 | Cessna Model C208 airplanes with a Pratt & Whitney Canada Ltd., PT6A-114A turboprop engine installed (675 SHP) or FAA-approved engine of equivalent horsepower installed, except airplanes modified by Supplemental Type Manual Certificate SA00892WI.
Revision 5 of of the 208 (600 SHP) FAA-approved Flight Manual Supplement S1 “Known Icing Equipment”, Cessna document D1307-S1-05, dated March 2, 2005 | Cessna Model C208 airplanes with a Pratt & Whitney Canada Ltd., PT6A-114 turboprop engine installed (600 SHP) or FAA-approved engine of equivalent horsepower approved installed, except airplanes modified by Supplemental Type Certificate SA00892WI.
Revision 6 of the 208B (675 SHP) FAA-approved Flight Manual Supplement S1 “Known Icing Equipment”, Cessna document D1329-S1-06, dated March 2, 2005 | Cessna Model C208B airplanes with a Pratt & Whitney of Canada Ltd., PT6A-114A turboprop engine installed (675 SHP) or FAA-approved engine of equivalent horsepower installed, except airplanes modified by Supplemental Type Certificate SA00892WI.
Revision 5 of the 208B (600 SHP) FAA-approved Flight Manual Supplement S1 “Known Icing Equipment”, Cessna document D1309-S1-05, dated March 2, 2005 | Cessna Model C208B airplanes with a Pratt & Whitney of Canada Ltd., PT6A-114 turboprop engine installed (600 SHP) or FAA-approved engine of equivalent horsepower installed, except airplanes modified by Supplemental Type Certificate SA00892WI.

FAA's Determination and Requirements of the AD

What has FAA decided? We have evaluated all pertinent information and identified an unsafe condition that is likely to exist or develop on other products of the same type design.

Since the unsafe condition described previously is likely to exist or develop on other type design Cessna Models C208 and C208B airplanes, we are issuing this AD to assure that the pilot has enough information to prevent loss of control of the airplane while in-flight during icing conditions.

What does this AD require? This AD requires you to incorporate the above-referenced documents into the AFM.

In preparing this rule, we contacted type clubs and aircraft operators to get technical information and information on operational and economic impacts. We did not receive any information through these contacts that influenced our decision. The majority of the respondents supported the dissemination of the information in the revised AFM.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-20514; Directorate Identifier 2005-CE-08-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket FAA-2005-20514; Directorate Identifier 2005-CE-08-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-07-01 The Cessna Aircraft Company: Amendment 39-14025; Docket No. FAA-2005-20514; Directorate Identifier 2005-CE-08-AD.

When Does This AD Become Effective?

(a) This AD becomes effective on March 29, 2005.

Are Any Other ADs Affected by This Action?

(b) None.

What Airplanes Are Affected by This AD?

(c) This AD affects Models C208 and C208B, all serial numbers, that are certificated in any category.

What Is the Unsafe Condition Presented in This AD?

(d) This AD results from several accidents/incidents of problems with the affected airplanes during operations in icing condition, including six accidents in the previous two icing seasons and nine events in the past few months. We are issuing this AD to assure that the pilot has enough information to prevent loss of control of the airplane while in-flight during icing conditions.

What Must I Do To Address This Problem?

(e) No later than April 1, 2005 (3 days after March 29, 2005, which is the effective date of this AD), incorporate the following revisions into the Airplane Flight Manual:

Affected airplanes | Incorporate the following AFM revision document | Revise the Performance Section (Section 5) of the AFM Supplement by inserting the following text (this may be done by inserting a copy of this AD in the AFM Supplement)
(1) Cessna Model C208 airplanes and Model C208B airplanes, all serial numbers | Section 2: Limitations and Section 4: Normal Procedures: Temporary Revision 208PHTR04, dated March 2, 2005, to the Pilots Operating Handbook (POH) and FAA-approved Airplane Flight Manual (AFM), except replace the Limitations (Section 2) of the Temporary Revision 208PHTR04 to the POH/FAA-approved AFM with the Appendix to this AD. (This may be done by inserting a copy of this AD into the POH/AFM.) | None.
(2) Cessna Model C208 airplanes with a Pratt & Whitney of Canada Ltd., PT6A-114A turboprop engine installed (675 SHP) or FAA-approved engine of equivalent horsepower installed, except airplanes modified by Supplemental Type Certificate SA0892WI | Section 9: Optional Systems Description and Operating Procedures: Revision 5 of the 208 (675 SHP) POH/FAA-approved AFM Supplement S1 “Known Icing Equipment” Cessna document D1352-S1-05, dated March 2, 2005 | WARNING: The stall warning system has not been tested in all icing conditions and should not be relied upon in icing conditions.
(3) Cessna Model C208 airplanes with a Pratt & Whitney of Canada Ltd., PT6A-114 turboprop engine installed (600 SHP) or FAA-approved engine of equivalent horsepower installed, except airplanes modified by Supplemental Type Certificate SA00892WI | Section 9: Optional Systems Description and Operating Procedures Revision 5 of the Cessna Model 208 (600 SHP) POH/FAA-approved AFM Supplement S1 “Known Icing Equipment”, Cessna document D1307-S1-05, dated March 2, 2005, except incorporate the Appendix to this AD into paragraphs “PREFLIGHT” and “VISUAL/TACTILE CHECK” of the Limitations Section of the POH/FAA-approved AFM Supplement S1 “Known Icing Equipment” | WARNING: The stall warning system has not been tested in all icing conditions and should not be relied upon in icing conditions.
(4) Cessna Model C208B airplanes with a Pratt & Whitney of Canada Ltd., PT6A-114A turboprop engine installed (675 SHP) or FAA-approved engine of equivalent horsepower installed, except airplanes modified by Supplemental Type Certificate SA00892WI | Section 9: Optional Systems Description and Operating Procedures Revision 6 of the 208B (675 SHP) POH/FAA-approved AFM Supplement S1 “Known Icing Equipment”, Cessna document D1329-S1-06, dated March 2, 2005 | WARNING: The stall warning system has not been tested in all icing conditions and should not be relied upon in icing conditions.
(5) Cessna Model C208B airplanes with a Pratt & Whitney of Canada Ltd., PT6A-114A turboprop engine installed (600 SHP) or FAA-approved engine of equivalent horsepower installed, except airplanes modified by Supplemental Type Certificate SA00892WI | Section 9: Optional Systems Description and Operating Procedures Revision 5 of the 208B (600 SHP) POH/FAA-approved AFM Supplement S1 “Known Icing Equipment”, Cessna document D1309-S1-05, dated March 2, 2005 | WARNING: The stall warning system has not been tested in all icing conditions and should not be relied upon in icing conditions.

(f) The owner/operator holding at least a private pilot certificate as authorized by section 43.7 of the Federal Aviation Regulations (14 CFR 43.7) may do the flight manual changes requirement of this AD. Make an entry in the aircraft records showing compliance with this portion of the AD following section 43.9 of the Federal Aviation Regulations (14 CFR 43.9).

May I Request an Alternative Method of Compliance?

(g) You may request a different method of compliance or a different compliance time for this AD by following the procedures in 14 CFR 39.19. Unless FAA authorizes otherwise, send your request to your principal inspector. The principal inspector may add comments and will send your request to the Manager, Standards Staff, Small Airplane Directorate, FAA, c/o Paul Pellicano, Aerospace Engineer (Icing), FAA, Small Airplane Directorate, c/o Atlanta Aircraft Certification Office (ACO), One Crown Center, 1895 Phoenix Boulevard, Suite 450, Atlanta, GA 30349; telephone: (770) 703-6064; facsimile: (770) 703-6097. For information on any already approved alternative methods of compliance, contact Paul Pellicano at the address and phone number above.

May I Get Copies of the Document Referenced in this AD?

(h) You may obtain the service information referenced in this AD from The Cessna Aircraft Company, Product Support, PO Box 7706, Wichita, Kansas 67277-7706; telephone: (316) 517-5800; facsimile: (316) 942-9006. To view the AD docket, go to the Docket Management Facility; U.S. Department of Transportation, 400 Seventh Street, SW., Nassif Building, Room PL-401, Washington, DC, or on the Internet at http://dms.dot.gov. This is docket number FAA-2005-20048; Directorate Identifier 2005-CE-08-AD.

Appendix to AD 2005-07-01, Amendment 39-14025

[Docket No. FAA-2005-20514; Directorate Identifier 2005-CE-08-AD]

Preflight

Takeoff is prohibited with any frost, ice, snow, or slush adhering to the wings, horizontal stabilizer, control surfaces, propeller blades, and engine inlets.

Warning

Even small amounts of frost, ice, and snow, or slush on the wing may adversely change lift and drag. Failure to remove these contaminants will degrade airplane performance and may prevent a safe takeoff and climbout.

Visual/Tactile Check

In addition to a visual check, a tactile check of the wing leading edge, wing upper surface (up to two feet behind the deicing boot at on-span location as a minimum), horizontal tail leading edge, and propeller blades is required if the outside air temperature (OAT) is below 5° C (41° F) and visible moisture (rain, drizzle, sleet, snow, fog etc.) is present or the airplane was exposed to visible moisture (rain, drizzle, sleet, snow, fog etc.) since the previous landing; or the airplane experienced in-flight ice accretion since the previous takeoff; or the difference between the dew point temperature and the OAT is 3° C (5° F) or less; or water is present on the wing. Reference the preflight procedures in Section 4 of the basic Pilot's Operating Handbook.

Issued in Kansas City, Missouri, on March 21, 2005.
David R. Showers,
Acting Manager, Small Airplane Directorate, Aircraft Certification Service.

[FR Doc. 05-5915 Filed 3-24-05; 8:45 am]

BILLING CODE 4910-13-P